GENERAL SERVICES ADMINISTRATION

[OMB Control No. 3090-0248; Docket 2011-0001; Sequence 13]

General Services Administration Acquisition Regulation; Submission for OMB Review; Solicitation Provisions and Contract Clauses; Placement of Orders Clause; and Ordering Information Clause

AGENCY: Office of Acquisition Policy, GSA.

ACTION: Notice of request for public comments regarding an extension to an existing OMB clearance.

SUMMARY: Under the provisions of the Paperwork Reduction Act, the Regulatory Secretariat will be submitting to the Office of Management and Budget (OMB) a request to review and approve an extension of a previously approved information collection requirement regarding solicitation provisions and contract clauses, placement of orders clause, and ordering information clause. A notice was published in the Federal Register at 77 FR 3476, on January 24, 2012. No comments were received.

Public comments are particularly invited on: Whether this collection of information is necessary and whether it will have practical utility; whether our estimate of the public burden of this collection of information is accurate and based on valid assumptions and methodology; and ways to enhance the quality, utility, and clarity of the information to be collected.

DATES: Submit comments on or before: May 30, 2012.

FOR FURTHER INFORMATION CONTACT: Deborah Eble, Procurement Analyst, General Services Acquisition Policy Division, GSA, (215) 446-5823 or via email at Deborah.eble@gsa.gov.

ADDRESSES: Submit comments identified by Information Collection 3090-0248, GSAR 516-506, Solicitation Provisions and Contract Clauses, 552.216-72 Placement of Orders Clause, and 552.216-73, Ordering Information Clause, by any of the following methods:

• Regulations.gov: http://www.regulations.gov. Submit comments via the Federal eRulemaking portal by searching the OMB control number. Select the link “Submit a Comment” that corresponds with “Information Collection 3090-0248, GSAR 516-506, Solicitation Provisions and Contract Clauses; 552.216-72, Placement of Orders Clause, and 552.216-73, Ordering Information Clause”. Follow the instructions provided at the “Submit a Comment” screen. Please include your name, company name (if any), and “Information Collection 3090-0248, GSAR 516-506, Solicitation Provisions and Contract Clauses; 552.216-72, Placement of Orders Clause, and 552.216-73, Ordering Information Clause” on your attached document.

• Fax: 202-501-4067.

• Mail: General Services Administration, Regulatory Secretariat (MVCB), 1275 First Street NE., Washington, DC 20417. ATTN: Hada Flowers/IC 3090-0248, GSAR 516-506, Solicitation Provisions and Contract Clauses; 552.216-72, Placement of Orders Clause, and 552.216-73, Ordering Information Clause.

Instructions: Please submit comments only and cite Information Collection 3090-0248, GSAR 516-506, Solicitation Provisions and Contract Clauses; 552.216-72, Placement of Orders Clause, and 552.216-73, Ordering Information Clause, in all correspondence related to this collection. All comments received will be posted without change to http://www.regulations.gov, including any personal and/or business confidential information provided.

SUPPLEMENTARY INFORMATION:

A. Purpose

The General Services Administration (GSA) has various mission responsibilities related to the acquisition and provision of the Federal Acquisition Service's (FAS's) Stock, Special Order, and Schedules Programs. These mission responsibilities generate requirements that are realized through the solicitation and award of various types of FAS contracts. Individual solicitations and resulting contracts may impose unique information collection and reporting requirements on contractors, not required by regulation, but necessary to evaluate particular program accomplishments and measure success in meeting program objectives. As such, GSAR 516.506, Solicitation provision and clauses, specifically directs contracting officers to insert 552.216-72, Placement of Orders, when the contract authorizes FAS and other activities to issue delivery or task orders and 552.216-73, Ordering Information, directs the Offeror to elect to receive orders placed by FAS by either facsimile transmission or computer-to-computer Electronic Data Interchange (EDI).

B. Annual Reporting Burden

Respondents: 7,143.

Responses per Respondent: 1.

Annual Responses: 7,143.

Hours per Response: .25.

Total Burden Hours: 1785.

Obtaining Copies of Proposals: Requesters may obtain a copy of the information collection documents from the General Services Administration, Regulatory Secretariat (MVCB), 1275 First Street NE., Washington, DC 20417, telephone (202) 501-4755. Please cite OMB Control No. 3090-0248, GSAR 516-506, Solicitation Provisions and Contract Clauses; 552.216-72, Placement of Orders Clause, and 552.216-73, Ordering Information Clause, in all correspondence.

Dated: April 16, 2012.
Joseph A. Neurauter,
Director, Office of Acquisition Policy & Senior Procurement Executive.

[FR Doc. 2012-10303 Filed 4-27-12; 8:45 am]

BILLING CODE 6820-61-P